DEPARTMENT OF COMMERCE

International Trade Administration

Multi-State, Multi-Sector Trade Mission to Colombia; September 9-12, 2013

AGENCY: International Trade Administration, Department of Commerce.

ACTION: Notice.

Mission Description

The United States Department of Commerce, International Trade Administration, U.S. and Foreign Commercial Service (US&FCS), in collaboration with the American Chamber of Commerce in Bogotá, is organizing a Trade Mission to Bogotá, Colombia from September 9-12, 2013. The purpose of this mission is to assist U.S. companies in launching or increasing exports of U.S. goods or services to Colombia. The mission will include business-to-business matchmaking appointments with local companies, as well as market briefings and networking events.

The mission is open to U.S. companies from a cross section of industries with growing potential in Colombia, including, but not limited to safety and security equipment and services, medical equipment, cosmetics, agricultural machinery, and information technology.

Commercial Setting

Why Colombia?

The U.S.-Colombia Trade Promotion Agreement (TPA), which entered into force on May 15, 2012, creates market opportunities for U.S. firms in a number of sectors. The U.S.-Colombia TPA provides duty-free entry for over 80 percent of U.S. consumer and industrial exports to Colombia, with remaining tariffs to be phased out over the next 10 years. The U.S.-Colombia TPA also opens the market for remanufactured goods and provides greater protection for intellectual property rights (IPR). Colombia's traditional acceptance of U.S. brands as well as U.S. and international standards provide a solid foundation for U.S. firms seeking to do business there.

Colombia is the third largest market in Latin America, after Mexico and Brazil, and is ranked 22nd globally as a market for U.S. exports. Over the past 10 years, Colombia has become one of the most stable economies in the region. Improved security, sound government policies, steady economic growth, moderate inflation and a wide range of opportunities make it worthwhile for U.S. exporters to consider Colombia as an export destination. With more than 45 million people, an improved security environment, an abundance of natural resources, and an educated and growing middle-class, business opportunities are booming in Colombia. The country's last two governments implemented policies that took Colombia on the path to global competitiveness, opening it up to global trade and investment for 10 consecutive years. Colombia's strong economic growth, moderate inflation rates, and sound fiscal policies have made it a haven of stability in a time of economic uncertainty. Over the last decade, the country's economy is estimated to have grown over 4% on average; inflation was kept in the single digits and is expected to remain well within the Central Bank of Colombia's 2% to 4% range. Furthermore, the Government's strict fiscal discipline led many international credit agencies to improve Colombia's credit rating to investment grade for the first time in over 10 years. Increasing Foreign Direct Investment (FDI) in Colombia demonstrates Colombia's rise as a business destination. In 2011, FDI into Colombia reached a historic US$13.4 billion from only US$2.4 billion in 2000, a fivefold increase in just ten years, with forecasts of continued growth through the next five years.

By 2011, Colombia's total international trade surpassed US$111 billion, exports reached US$56 billion while imports reached a historic US$55 billion. After implementing free trade agreements (FTAs) with the United States and with Canada, Colombia continues to move aggressively in opening up to trade, seeking to quickly implement FTAs negotiated with the European Union and South Korea, as well as moving ahead in negotiations with countries such as Japan, Turkey, Costa Rica and Israel.

Best Prospects for U.S. Companies

Safety and Security Industry

The safety and security market in Colombia is a very dynamic sector, growing at an estimated rate of 5 to 10% per year. It is also estimated that the total Colombian budget for defense is US$10 billion in 2012 (close to 6% of GDP). The Colombian government is investing heavily in intelligence equipment and services. Market opportunities exist for safety and security industry products such as CCTV cameras, telephones for security, reproduction and record devices for security, data processing equipment, radio transmission, biometric equipment, and communication jammers, among others. Opportunities exist in the defense sector for helicopters and fixed wing parts and maintenance services, unmanned aerial vehicles (UAVs), Improvised Explosive Devices (IEDs) and mine detectors, modern communication systems (MCS), IT-structure platforms, marine and coastal surveillance systems and logistics software solutions and applications, among others. The U.S.-Colombia TPA reduced tariffs for a wide variety of products and services in the safety and security industries.

Medical Equipment

Strong opportunities exist for exports of medical equipment and other health industry-related products and services to Colombia. Following the entry into force of the U.S.-Colombia TPA, approximately 98% of all U.S. medical equipment imports into Colombia are subject to zero tariffs. U.S. imports enjoy the largest share of the local market, accounting for around a third of all medical equipment imports. Currently, the strongest competitors are companies from Germany and Japan, and companies from China are quickly increasing their market share. The best approach to enter into this market is through distributors.

In 2011, Colombia imported medical equipment & supplies valued at US$985 million, their highest ever level. A few multinationals manufacture in the country. The medical device industry is concentrated around the capital Bogotá. Per capita spending on medical devices is average for the region.

According to a 2012 study by America Economia Intelligence, seven of the twenty best hospitals and clinics in Latin America are located in Colombia, including: Hospital Fundacion Santa Fe in Bogota (4th place); and Fundacion Valle del Lili in Cali, Fundacion Cardioinfantil in Bogota, and Fundacion Cardiovascular de Colombia in Bucaramanga (7th, 8th, and 9th place, respectively).

Cosmetics

Colombia is the fifth largest market for cosmetics in Latin America, following Brazil, Mexico, Argentina and Venezuela. The estimated market size in 2010 was US$ 6.2 million. Local production of cosmetics, toiletries, and personal hygiene products has been growing on an average of 4.4% since 2003. Local production reached US$2.7 million in 2010.

The Colombian cosmetic market is attractive for U.S. companies for various reasons:

• Highest rate of females in the workplace in Latin America. Female participation in the labor force is 44.6% (2007) in Colombia. Women's participation in the labor market has increased over 11% in the past five years;

• Use of free trade zones for cosmetic and toiletry products, with corporate tax benefits;

• Convenient geographic location as a global export hub;

• Zero tariffs on many U.S. products in the cosmetic sector.

Agricultural Equipment

Colombia is the 18th largest market for U.S. agricultural equipment exports. The U.S.-Colombia TPA provided immediate tariff reduction to 0% from 10% on combines, to 0% from 15% on tractors, and reductions on other equipment. The U.S.-Colombia TPA eliminated Colombia's restrictions on the importation of remanufactured goods, and the Government of Colombia is encouraging farmers to participate in lease programs. The agricultural equipment sector accounted for nearly US$19 million in U.S. exports to Colombia over 2008-10 (average) or less than 1 percent of total U.S. industrial exports to Colombia. Colombia has been a net food importer because food production was disrupted by the unstable security environment. With improved security, areas that had gone unfarmed for prolonged periods are now producing, and the agricultural sector in Colombia is likely to continue to grow without affecting natural forests. Barely 8% of the potential arable land is effectively used. The availability of water resources in Colombia is among the highest in the world with nearly 45,202 cubic meters per capita per year which exceeds the South American average and is significantly higher than other regions in North America, Europe and Asia. The Government of Colombia is developing policies to incentivize the agriculture sector in Colombia, which, if carried out, will lead to opportunities for U.S. exporters of agricultural equipment.

Information Technology

Colombia's IT sector has been experiencing very dynamic growth due to government investment in infrastructure, expanding connectivity throughout the country, and transitioning it from being a hardware-demand driven market to a market that incorporates more value-added IT spending. The Ministry of Information Technology and Communications' (MinTIC) is halfway through its broadband expansion plan called Vive Digital, which seeks to provide connectivity to 8 million Colombians throughout the entire country by 2014. While all of the major bids for this process are in the execution phase, the new connectivity environment is very likely to drive up demand for services by households and businesses, which will seek to take advantage of expanded Internet access.

With the expected continuation of an advancing Colombian economy, the establishment of new businesses in the country should continue and even increase, particularly as Colombia moves forward in the implementation of the Free Trade Agreements it has negotiated. This trend should sustain the demand for hardware and software equipment. Additionally, as local companies continue to grow in size and scope of operations, they too are expected to strengthen their IT capabilities with investments in data centers and Customer Relationship Management Solutions, as well as IT Risk Services.

Major government programs led by new entities such as iNNpulsa, are allocating funds for technology modernization programs geared towards small and medium companies, which make up more than 90% of all Colombian businesses, and have been found to have very low rates of technology penetration and connectivity. This, in combination with a reduction in tariffs and taxes, particularly for new equipment such as computers and tablets, demonstrates significant opportunities for U.S. exporters in the IT industries.

Other Products and Services

The foregoing analysis of the above industry sectors in Colombia is not intended to be exhaustive, but illustrative of the many opportunities available to U.S. businesses. Applications from companies selling products or services generally within the scope of this mission will be considered and evaluated by the U.S. Department of Commerce. Companies whose products or services do not fit the scope of the mission may contact their local U.S. Export Assistance Center (USEAC) to learn about other business development missions and export promotion services that may provide more targeted export opportunities. Companies may call 1-800-872-8723, or go to http://help.export.gov/ to obtain such information. This information also may be found on the Web site: http://www.export.gov.

Mission Goals

The goal of the trade mission to Colombia is to help participating firms gain market insights, make industry contacts, solidify business/sector strategies, and advance specific projects, with the goal of increasing U.S. exports to Colombia. Participants will have access to the US&FCS Senior Commercial Officer in Bogotá and to US&FCS Commercial Specialists during the mission. They will learn about the many business opportunities in Colombia, and gain first-hand market exposure. Participants already doing business in Colombia will have opportunities to further advance business relationships and projects in that market. U.S. companies new to Colombia will gain support in finding agents, distributors, and joint venture partners through this mission, laying the foundation for successful long-term ventures by providing business-to-business introductions and market access information.

Mission Scenario

The mission will stop in Bogotá, Colombia. Participants will meet with pre-screened potential agents, distributors, and representatives, as well as other business partners and government officials. They will also attend market briefings by U.S. Embassy officials and networking events offering further opportunities to speak with local business and industry decision-makers.

Proposed Time Table
Monday, September 9, 2013, Bogota, Colombia | Arrival. Market Briefing. Networking reception.
Tuesday, September 10, 2013, Bogota, Colombia | Matchmaking appointments and/or site visits.
Wednesday, September 11, 2013, Bogota, Colombia | Matchmaking appointments.
Thursday, September 12, 2013, Bogota, Colombia | Depart.

Participation Requirements

All parties interested in participating in the Trade Mission to Colombia must complete and submit an application package for consideration by the Department of Commerce. All applicants will be evaluated on their ability to meet certain conditions and best satisfy the selection criteria as outlined below. A minimum of 15 and a maximum of 30 U.S. companies will be selected to participate in the mission from the applicant pool on a first-come, first-served basis. U.S. companies already doing business with Colombia, as well as U.S. companies seeking to enter this market for the first time, may apply.

Fees and Expenses

After a company has been selected to participate on the mission, a payment to the Department of Commerce in the form of a participation fee is required.

• The participation fee will be US$1,995 for a small or medium-sized enterprise (SME) ¹ and US$3,040 for a large firm

¹ An SME is defined as a firm with 500 or fewer employees or that otherwise qualifies as a small business under SBA regulations (see http://www.sba.gov/services/contractingopportunities/sizestandardstopics/index.html). Parent companies, affiliates, and subsidiaries will be considered when determining business size. The dual pricing reflects the Commercial Service's user fee schedule that became effective May 1, 2008 (see http://www.export.gov/newsletter/march2008/initiatives.html for additional information).

• The fee for each additional representative is US$450.

• Expenses for travel to and from the mission, lodging, most meals, and incidentals will be the responsibility of each mission participant.

Intergovernmental Cooperation and Assistance for Small Businesses

The U.S. Small Business Administration is partnering with State trade organizations to promote increased trade and exporting through the State Trade and Export Promotion (STEP) program. As part of this program, some States are offering financial assistance for U.S. small businesses to assist them in pursuing export opportunities, such as through participation on a Department of Commerce trade mission. Small businesses interested in more information about the STEP in their State are encouraged to contact their State STEP representative (contact information available by clicking on the interactive map at www.sba.gov/step) to learn more about the resources and assistance offered by their State trade organization.

Conditions of Participation

• An applicant must submit a completed and signed mission application and supplemental application materials, including adequate information on the company's products and/or services primary market objectives, and goals for participation. If the Department of Commerce receives an incomplete application, the Department may reject the application, request additional information, or take the lack of information into account when evaluating the applications.

• Each applicant must also certify that the products and services it seeks to export through the mission are either produced in the United States, or, if not, marketed under the name of a U.S. firm and have at least fifty-one percent U.S. content.

Selection Criteria for Participation

Selection will be based on the following criteria, listed in decreasing order of importance:

• Suitability of the company's products or services for the Colombian market

• Company's potential for business in Colombia, including likelihood of exports resulting from the mission

• Consistency of the applicant's goals and objectives with the stated scope of the trade mission

Referrals from political organizations and any documents containing references to partisan political activities (including political contributions) will be removed from an applicant's submission and not considered during the selection process.

Timeframe for Recruitment and Applications

Mission recruitment will be conducted in an open and public manner, including publication in the Federal Register, posting on the U.S. Department of Commerce trade mission calendar (www.export.gov/trademissions) and other Internet Web sites, press releases to general and trade media, notices by industry trade associations and other multiplier groups, and publicity at industry meetings, symposia, conferences, and trade shows.

Recruitment will begin immediately and conclude no later than Friday, June 7, 2013. The U.S. Department of Commerce will review applications and make selection decisions on a rolling basis beginning [at least two weeks after FR notice date of publication] until the maximum of thirty participants is reached. We will inform all applicants of selection decisions as soon as possible after applications are reviewed. Applications received after the June 7th deadline will be considered only if space and scheduling constraints permit.

How To Apply

Applications can be downloaded from the trade mission Web site or can be obtained by contacting April Redmon or Leandro Solorzano at the U.S. Department of Commerce (see contact details below.) Completed applications should be submitted to April Redmon or Leandro Solorzano.

Contacts

U.S. Commercial Service

Trade Americas Team: Ms. April Redmon, International Trade Specialist, U.S. Commercial Service—Virginia/Washington, DC, 2800 S. Randolph St., Suite 800, Arlington, VA 22206, Tel: 703-756-1704, Email: April.Redmon@trade.gov.

Leandro Solorzano, International Trade Specialist, U.S. Commercial Service—Ft. Lauderdale, 1850 Eller Dr., Suite 401, Fort Lauderdale, FL 33316, Tel: 954-356-6647, Email: Leandro.Solorzano@trade.gov.

U.S. Commercial Service in Colombia: Carlos Suarez, Commercial Specialist, U.S. Commercial Service Bogota, Tel: 011-571-275-2690, Email: Carlos.Suarez@trade.gov.

Elnora Moye,
Trade Program Assistant.

[FR Doc. 2013-05507 Filed 3-8-13; 8:45 am]

BILLING CODE 3510-FP-P